ENVIRONMENTAL PROTECTION AGENCY

[FRL-7619-3]

Good Neighbor Environmental Board Meeting

AGENCY: Environmental Protection Agency (EPA).

ACTION: Notice of meeting.

SUMMARY: The next meeting of the Good Neighbor Environmental Board, a Federal advisory committee that reports to the President and Congress on environmental and infrastructure projects along the U.S. border with Mexico, will take place in Washington, DC, on February 24 and 25, 2004. It is open to the public.

DATES: On February 24, the meeting will begin at 9:30 a.m. (registration at 9 a.m.) and end at 5:30 p.m. On February 25, the Board will hold its annual Strategic Planning Session from 9 a.m. until 12 noon, and a routine business meeting from 1 p.m. until 4 p.m. (registration at 8:30 a.m.).

ADDRESSES: The meeting site is the Chesapeake Room of the Watergate Hotel, 2650 Virginia Avenue, NW., Washington, DC. The nearest metro is Foggy Bottom on the Orange and Blue Line.

FOR FURTHER INFORMATION CONTACT: Elaine M. Koerner, Designated Federal Officer for the Good Neighbor Environmental Board, U.S. Environmental Protection Agency Region 9 Office, 75 Hawthorne St., San Francisco, California, 94105. Tel: Region 9 office: (415) 972-3437; DC office (202) 233-0069. E-mail: koerner.elaine@epa.gov.

SUPPLEMENTARY INFORMATION: Meeting Access: Individuals requiring special accommodation at this meeting, including wheelchair access to the conference room, should contact the Designated Federal Officer at least five business days prior to the meeting so that appropriate arrangements can be made.

Agenda: On the first day of the meeting, which begins at 9:30 a.m. (registration at 9 a.m.), the Board will host an expert panel session called Border Environmental Forecast 2004. The morning session will include a panel discussion, followed by a public comment session. After lunch, a second panel discussion will take place, followed by briefings from border-region water experts. In addition, several public officials have been invited to speak throughout the day. The first day of the meeting will conclude at 5:30 p.m.

The second day of the meeting, February 25, begins at 9 a.m., with registration at 8:30 a.m. The morning session will be devoted to the Board's annual Strategic Planning Session. In the afternoon, the Board will hold a routine business meeting. The meeting is scheduled to end at 4 p.m.

Public Attendance: The public is welcome to attend all portions of the meeting. Members of the public who plan to file written statements and/or make brief (suggested 5-minute limit) oral statements at the public comment session are encouraged to contact the Designated Federal Officer for the Board prior to the meeting.

Background: The Good Neighbor Environmental Board meets three times each calendar year at different locations along the U.S.-Mexico border and in Washington, DC. It was created by the Enterprise for the Americas Initiative Act of 1992. An Executive Order delegates implementing authority to the Administrator of EPA. The Board is responsible for providing advice to the President and the Congress on environmental and infrastructure issues and needs within the States contiguous to Mexico in order to improve the quality of life of persons residing on the United States side of the border. The statute calls for the Board to have representatives from U.S. Government agencies; the governments of the States of Arizona, California, New Mexico and Texas; and private organizations with expertise on environmental and infrastructure problems along the southwest border. The U.S. Environmental Protection Agency gives notice of this meeting of the Good Neighbor Environmental Board pursuant to the Federal Advisory Committee Act (Pub. L. 92-463).

Dated: January 30, 2004.
Mark Joyce,
Associate Director, Committee Management Operations.

[FR Doc. 04-2622 Filed 2-5-04; 8:45 am]

BILLING CODE 6560-50-P